DEPARTMENT OF COMMERCE

International Trade Administration

[A-580-876]

Welded Line Pipe From the Republic of Korea: Preliminary Results of Antidumping Duty Administrative Review and Preliminary Determination of No Shipments; 2020-2021

AGENCY: Enforcement and Compliance, International Trade Administration, Department of Commerce.

SUMMARY: The U.S. Department of Commerce (Commerce) preliminarily determines that certain producers/exporters subject to this administrative review made sales of subject merchandise at less than normal value (NV). Interested parties are invited to comment on these preliminary results of review.

DATES: Applicable December 29, 2022.

FOR FURTHER INFORMATION CONTACT: Adam Simons or Paul Gill, AD/CVD Operations, Office II, Enforcement and Compliance, International Trade Administration, U.S. Department of Commerce, 1401 Constitution Avenue NW, Washington, DC 20230; telephone: (202) 482-6172 or (202) 482-5673, respectively.

SUPPLEMENTARY INFORMATION:

Background

On February 4, 2022, based on timely requests for review, in accordance with 19 CFR 351.221(c)(1)(i), we initiated an administrative review of the antidumping duty order on welded line pipe from the Republic of Korea (Korea).¹ The period of review (POR) is December 1, 2020, through November 30, 2021. On August 17, 2022, we extended the preliminary results of this review to no later than December 23, 2022.² For a complete description of the events that followed the initiation of this review, see the Preliminary Decision Memorandum.³

¹ See Initiation of Antidumping and Countervailing Duty Administrative Reviews, 87 FR 6487 (February 4, 2022); see also Welded Line Pipe from the Republic of Korea and the Republic of Turkey: Antidumping Duty Orders, 80 FR 75056, 75057 (December 1, 2015) (Order).

² See Memorandum, “Extension of Deadline for Preliminary Results of 2020-2021 Antidumping Duty Administrative Review,” dated August 17, 2022.

³ See Memorandum, “Decision Memorandum for the Preliminary Results of the 2020-2021 Administrative Review of the Antidumping Duty Order on Welded Line Pipe from Korea,” dated concurrently with, and hereby adopted by, this notice (Preliminary Decision Memorandum).

Scope of the Order

The merchandise subject to the Order is welded line pipe.⁴ The product is currently classified under the following Harmonized Tariff Schedule of the United States (HTSUS) item numbers: 7305.11.1030, 7305.11.1060, 7305.11.5000, 7305.12.1030, 7305.12.1060, 7305.12.5000, 7305.19.1030, 7305.19.5000, 7306.19.1010, 7306.19.1050, 7306.19.5110, and 7306.19.5150. Although the HTSUS subheadings are provided for convenience and for customs purposes, the written product description remains dispositive.

⁴ For a complete description of the scope of the Order, see the Preliminary Decision Memorandum.

Methodology

Commerce is conducting this review in accordance with section 751(a) of the Tariff Act of 1930, as amended (the Act). Export price and constructed export price are calculated in accordance with section 772 of the Act. NV is calculated in accordance with section 773 of the Act.

For a full description of the methodology underlying our conclusions, see the Preliminary Decision Memorandum. A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Preliminary Determination of No Shipments

Among the companies under review, HiSteel Co., Ltd. (HiSteel) properly filed a statement that it made no shipments of subject merchandise to the United States during the POR.⁵ Based on its certification and our analysis of U.S. Customs and Border Protection (CBP) information, we preliminarily determine that HiSteel had no reviewable transactions during the POR.⁶ Consistent with our practice, we are not preliminarily rescinding the review with respect to HiSteel. Instead, we will complete the review for HiSteel and issue appropriate instructions to CBP based on the final results of this review.⁷

⁵ See HiSteel's Letter, “No Shipments Letter,” dated March 7, 2022.

⁶ See Memorandum, “Results of No Shipments Inquiry for HiSteel Co., Ltd.,” dated March 7, 2022.

⁷ See, e.g., Welded Line Pipe from the Republic of Korea: Preliminary Results of Antidumping Duty Administrative Review and Preliminary Determination of No Shipments; 2019-2020, 87 FR 928 (January 7, 2022), unchanged in Welded Line Pipe from the Republic of Korea: Final Results of Antidumping Duty Administrative Review; 2019-2020, 87 FR 38061 (June 27, 2022).

Preliminary Results of Review

As a result of this review, we preliminarily determine the following weighted-average dumping margins for the period December 1, 2020, through November 30, 2021:

Producer or exporter | Weighted- average dumping margin (percent)
NEXTEEL Co., Ltd. | 2.56
SeAH Steel Corporation | 4.14
Companies Not Selected for Individual Review ⁸ | 3.32

Review-Specific Average Rate for Companies Not Selected for Individual Review

The exporters or producers not selected for individual review are listed in Appendix II.

⁸ Under section 735(c)(5)(A) of the Act, the all-others rate is normally “an amount equal to the weighted average of the estimated weighted-average dumping margins established for exporters and producers individually examined, excluding any margins that are zero or de minimis margins, and any margins determined entirely {on the basis of facts available}.” For these preliminary results, we have preliminarily calculated a weighted-average dumping margin for these companies using the calculated rates of the mandatory respondents, NEXTEEL and SeAH, which are not zero or de minimis, or determined entirely on the basis of facts available.

Assessment Rates

Upon issuing the final results, Commerce shall determine, and CBP shall assess, antidumping duties on all appropriate entries. Pursuant to 19 CFR 351.212(b)(1), where NEXTEEL Co., Ltd. (NEXTEEL) reported the entered value of its U.S. sales, we calculated importer-specific ad valorem duty assessment rates based on the ratio of the total amount of dumping calculated for the examined sales to the total entered value of the sales for which entered value was reported. SeAH Steel Corporation (SeAH) did not report actual entered value for all of its U.S. sales; in such instances, we calculated importer-specific per-unit duty assessment rates by aggregating the total amount of antidumping duties calculated for the examined sales and dividing this amount by the total quantity of those sales. Where either the respondent's weighted-average dumping margin is zero or de minimis within the meaning of 19 CFR 351.106(c)(1), or an importer-specific rate is zero or de minimis, we will instruct CBP to liquidate the appropriate entries without regard to antidumping duties.

For the companies which were not selected for individual review, we will assign an assessment rate based on the weighted average of the cash deposit rates calculated for NEXTEEL and SeAH excluding any which are zero, de minimis, or determined entirely on adverse facts available. The final results of this review shall be the basis for the assessment of antidumping duties on entries of merchandise covered by the final results of this review and for future deposits of estimated duties, where applicable.⁹

⁹ See section 751(a)(2)(C) of the Act.

Commerce's “automatic assessment” practice will apply to entries of subject merchandise during the POR produced by NEXTEEL or SeAH for which the reviewed companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, or the less-than-fair-value (LTFV) investigation, but the manufacturer is, then the cash deposit rate will be the rate established for the most recent segment for the manufacturer of the merchandise; and (4) the cash deposit rate for all other manufacturers or exporters will continue to be 4.38 percent, the all-others rate established in the LTFV investigation.¹⁰ These deposit requirements, when imposed, shall remain in effect until further notice.

¹⁰ See Order.

Disclosure and Public Comment

Commerce intends to disclose the calculations performed in connection with these preliminary results to interested parties within five days after the date of publication of this notice.¹¹ Interested parties may submit case briefs to Commerce no later than 30 days after the date of publication of this notice.¹² Rebuttal briefs, limited to issues raised in the case briefs, may be filed no later than seven days after the time limit for filing case briefs.¹³ Parties who submit case briefs or rebuttal briefs in this proceeding are encouraged to submit with each argument: (1) a statement of the issue; (2) a brief summary of the argument; and (3) a table of authorities.¹⁴ Case and rebuttal briefs should be filed using ACCESS.¹⁵ Note that Commerce has temporarily modified certain of its requirements for serving documents containing business proprietary information, until further notice.¹⁶

¹¹ See 19 CFR 351.224(b).

¹² See 19 CFR 351.309(c).

¹³ Commerce is exercising its discretion, under 19 CFR 351.309(d)(1), to alter the time limit for filing of rebuttal briefs.

¹⁴ See 19 CFR 351.309(c)(2) and (d)(2).

¹⁵ See 19 CFR 351.303.

¹⁶ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS within 30 days after the date of publication of this notice.¹⁷ Hearing requests should contain: (1) the party's name, address, and telephone number; (2) the number of participants; and (3) a list of issues to be discussed. Oral presentations at the hearing will be limited to issues raised in the briefs. If a request for a hearing is made, parties will be notified of the time and date for the hearing.¹⁸

¹⁷ See 19 CFR 351.310(c).

¹⁸ See 19 CFR 351.310(d).

Commerce intends to issue the final results of this administrative review, including the results of its analysis raised in any written briefs, not later than 120 days after the publication of these preliminary results in the Federal Register, unless otherwise extended.¹⁹

¹⁹ See section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: December 22, 2022.
Lisa W. Wang,
Assistant Secretary for Enforcement and Compliance.

Appendix I

List of Topics Discussed in the Preliminary Decision Memorandum

I. Summary

II. Background

III. Scope of the Order

IV. Preliminary Determination of No Shipments

V. Discussion of the Methodology

VI. Recommendation

Appendix II

Review-Specific Average Rate Applicable to Companies Not Selected for Individual Review

1. AJU Besteel Co., Ltd.

2. BDP International, Inc.

3. Daewoo International Corporation

4. Dongbu Incheon Steel Co.

5. Dongbu Steel Co., Ltd.

6. Dongkuk Steel Mill

7. Dong Yang Steel Pipe

8. EEW Korea Co., Ltd.

9. Husteel Co., Ltd.

10. Hyundai RB Co. Ltd.

11. Hyundai Steel Company/Hyundai HYSCO

12. Kelly Pipe Co., LLC

13. Keonwoo Metals Co., Ltd.

14. Kolon Global Corp.

15. Korea Cast Iron Pipe Ind. Co., Ltd.

16. Kurvers Piping Italy S.R.L.

17. Miju Steel MFG Co., Ltd.

18. MSTEEL Co., Ltd.

19. Poongsan Valinox (Valtimet Division)

20. POSCO

21. POSCO Daewoo

22. R&R Trading Co. Ltd.

23. Sam Kang M&T Co., Ltd.

24. Sin Sung Metal Co., Ltd.

25. SK Networks

26. Soon-Hong Trading Company

27. Steel Flower Co., Ltd.

28. TGS Pipe

29. Tokyo Engineering Korea Ltd.

[FR Doc. 2022-28388 Filed 12-28-22; 8:45 am]

BILLING CODE 3510-DS-P